DEPARTMENT OF COMMERCE

National Oceanic and Atmospheric Administration

[RTID 0648-XC293]

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Groundfish Committee to consider actions affecting New England fisheries in the exclusive economic zone (EEZ). This meeting will be held both in-person and with a webinar option. Recommendations from this group will be brought to the full Council for formal consideration and action, if appropriate.

DATES: This meeting will be held on Thursday, September 15, 2022, at 9 a.m.

ADDRESSES: The meeting will be held at the Hilton Garden Inn, 100 Boardman Street, Boston, MA 02129; phone: (617) 567-6789.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Groundfish Committee will meet to discuss: Framework Adjustment 65/Specifications and Management Measures—status determination criteria, Gulf of Maine (GOM) cod and Southern New England/Mid-Atlantic (SNE/MA) winter flounder rebuilding plans, FY2023-FY2024 US/CA total allowable catches, FY2023-FY2024 specifications: Georges Bank (GB) yellowtail flounder and GB cod (including a catch target for the recreational fishery), FY2023-FY2025 specifications for 14 stocks, additional measures to promote stock rebuilding for GB cod, GOM cod and SNE/MA winter flounder, and revised acceptable biological catch (ABC) control rules, in consultation with the Scientific and Statistical Committee. They also plan to discuss Amendment 23 Review Metrics—progress on the development of metrics. The committee will discuss Atlantic Cod Management—the development of a draft white paper on potential approaches to allocate “GB cod” to the recreational fishery delivered in 2022 to inform the 2023 priorities discussion, and presentation by Gulf of Maine Research Institute staff on their Atlantic cod Management Strategy Evaluation. They will discuss possible Council 2023 Priorities—possible groundfish priorities for 2023. Also on the agenda is NOAA's National Saltwater Recreational Fisheries Policy—provide input to the Council on updating NOAA's National Saltwater Recreational Fisheries Policy; Consider recommendations from the Groundfish Plan Development Team, Recreational Advisory Panel, and Groundfish Advisory Panel; make recommendations to the Council, as appropriate. Other business as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the date. This meeting will be recorded. Consistent with 16 U.S.C. 1852, a copy of the recording is available upon request.

Authority: 16 U.S.C. 1801 et seq.

Dated: August 24, 2022.
Rey Israel Marquez,
Acting Deputy Director, Office of Sustainable Fisheries, National Marine Fisheries Service.

[FR Doc. 2022-18599 Filed 8-29-22; 8:45 am]

BILLING CODE 3510-22-P